DEPARTMENT OF INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC).

The business meeting will be held on May 7-8, 2003, at the BLM Arizona Strip Field Office, 345 East Riverside Drive, St. George, Utah. It will begin at 2 p.m. and conclude at 6 p.m. on May 7, and will continue from 8 to 11 a.m. on May 8. (All times are based on Mountain Standard Daylight Savings.) The agenda items to be covered include: Review and approval of the January 27, and March 25, 2003 meeting minutes; BLM State Director's Update on Statewide Issues; Arizona Land Use Planning, “Working Landscapes” Initiative, Wild Horse and Burro Advisory Board and National RAC Meeting Updates; Presentation on Wilderness Areas Proposed in Arizona Land Use Planning Efforts; RAC Questions on Written Reports from BLM Field Office Managers; Update Proposed Field Office Rangeland Resource Teams, Reports by the Standards and Guidelines, Recreation, Public Relations, Land Use Planning, Wild Horse and Burro Working Groups; Reports from RAC members; and Discussion of future meetings. A public comment period will be provided at 5 p.m. on May 7, for any interested persons who wish to address the Council.

FOR FURTHER INFORMATION CONTACT: Deborah Stevens, Bureau of Land Management, Arizona State Office, 222 North Central Avenue, Phoenix, Arizona 85004-2203, (602) 417-9215.

Lonna O'Neil,
Acting Arizona State Director.

[FR Doc. 03-9574 Filed 4-17-03; 8:45 am]

BILLING CODE 4310-32-M